ENVIRONMENTAL PROTECTION AGENCY

40 CFR Part 300

[EPA-HQ-SFUND-2000-0007; FRL-8912-1]

National Oil and Hazardous Substance Pollution Contingency Plan; National Priorities List

AGENCY: Environmental Protection Agency.

ACTION: Direct Final Notice of Deletion of the Callaway & Son Drum Services Superfund Site from the National Priorities List.

SUMMARY: The Environmental Protection Agency (EPA) Region 4 is publishing a direct final Notice of Deletion of the Callaway & Son Drum Services Superfund Site, located in Lake Alfred, Polk County, Florida from the National Priorities List (NPL). The NPL, promulgated pursuant to section 105 of the Comprehensive Environmental Response, Compensation, and Liability Act (CERCLA) of 1980, as amended, is an appendix of the National Oil and Hazardous Substances Pollution Contingency Plan (NCP). This direct final deletion is being published by EPA with the concurrence of the State of Florida, through the Florida Department of Environmental Protection, because EPA has determined that all appropriate response actions under CERCLA, other than five-year reviews, have been completed. However, this deletion does not preclude future actions under Superfund.

DATES: This direct final deletion is effective August 4, 2009 unless EPA receives adverse comments by July 6, 2009. If adverse comments are received, EPA will publish a timely withdrawal of the direct final deletion in the Federal Register informing the public that the deletion will not take effect.

ADDRESSES: Submit your comments, identified by Docket ID no. EPA-HQ-SFUND-2000-0007, by one of the following methods:

• http://www.regulations.gov. Follow on-line instructions for submitting comments.

• E-mail: jackson.galo@epa.gov.

• Fax: (404) 562-8842.

• 61 Forsyth Street, SW., Atlanta, Georgia 30303-8960.

• Hand delivery: 61 Forsyth Street, SW., Atlanta, Georgia 30303-8960. Such deliveries are only accepted during the Docket's normal hours of operation (8 a.m. to 4:30 p.m.), and special arrangements should be made for deliveries of boxed information.

Instructions: Direct your comments to Docket ID no. EPA-HQ-SFUND-2000-0007. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the Docket are listed in the http://www.regulations.gov index. Although listed in the index, some information is not publicly available, e.g., CBI or other information whose disclosure is restricted by statue. Certain other material, such as copyrighted material, will be publicly available only in the hard copy. Publicly available docket materials are available either electronically in http://www.regulations.gov or in hard copy at:

U.S. EPA Record Center, attn: Ms. Debbie Jourdan, Atlanta Federal Center, 61 Forsyth Street, SW., Atlanta, Georgia 30303-8960, Phone: (404) 562-8862. Hours: 8 a.m. to 4 p.m., Monday through Friday. By Appointment Only.

Lake Alfred Public Library, 195 East Pomelo Street, Lake Alfred, Florida 33850, Phone: (863) 291-5378. Hours: 10 a.m. to 6 p.m., Monday through Friday 9 a.m. to 2 p.m., Saturday closed, Sunday.

FOR FURTHER INFORMATION CONTACT: Galo Jackson, Remedial Project Manager, Environmental Protection Agency, Region 4, 4WD-SRB, 61 Forsyth Street, SW., Atlanta, GA 30303-8960, (404) 562-8937, e-mail: jackson.galo@epa.gov.

SUPPLEMENTARY INFORMATION:

Table of Contents

I. Introduction

II. NPL Deletion Criteria

III. Deletion Procedures

IV. Basis for Site Deletion

V. Deletion Action

I. Introduction

EPA Region 4 is publishing this direct final Notice of Deletion of the Callaway & Son Drum Services Superfund Site, from the NPL. The NPL constitutes Appendix B of 40 CFR part 300, which is the NCP, which EPA promulgated pursuant to section 105 of the CERCLA of 1980, as amended. EPA maintains the NPL as the list of sites that appear to present a significant risk to public health, welfare, or the environment. Sites on the NPL may be the subject of remedial actions financed by the Hazardous Substance Superfund (Fund). As described in 300.425(e) (3) of the NCP, sites deleted from the NPL remain eligible for Fund-financed remedial actions if future conditions warrant such actions.

Because EPA considers this action to be noncontroversial and routine, this action will be effective August 4, 2009 unless EPA receives adverse comments by July 6, 2009. Along with this direct final Notice of Deletion, EPA is co-publishing a Notice of Intent to Delete in the “Proposed Rules” section of the Federal Register. If adverse comments are received within the 30-day public comment period on this deletion action, EPA will publish a timely withdrawal of this direct final Notice of Deletion before the effective date of the deletion, and the deletion will not take effect. EPA will, as appropriate, prepare a response to comments and continue with the deletion process on the basis of the Notice of Intent to Delete and the comments already received. There will be no additional opportunity to comment.

Section II of this document explains the criteria for deleting sites from the NPL. Section III discusses procedures that EPA is using for this action. Section IV discusses the Callaway & Son Drum Services Superfund Site and demonstrates how it meets the deletion criteria. Section V discusses EPA's action to delete the Site from the NPL unless adverse comments are received during the public comment period.

II. NPL Deletion Criteria

The NCP establishes the criteria that EPA uses to delete sites from the NPL. In accordance with 40 CFR 300.425(e), sites may be deleted from the NPL where no further response is appropriate. In making such a determination pursuant to 40 CFR 300.425(e), EPA will consider, in consultation with the state, whether any of the following criteria have been met:

i. Responsible parties or other persons have implemented all appropriate response actions required;

ii. All appropriate Fund-financed response under CERCLA has been implemented, and no further response action by responsible parties is appropriate; or

iii. The remedial investigation has shown that the release poses no significant threat to public health or the environment and, therefore, the taking of remedial measures is not appropriate.

Pursuant to CERCLA section 121 (c) and the NCP, EPA conducts five-year reviews to ensure the continued protectiveness of remedial actions where hazardous substances, pollutants, or contaminants remain at a site above levels that allow for unlimited use and unrestricted exposure. EPA conducts such five-year reviews even if a site is deleted from the NPL. EPA may initiate further action to ensure continued protectiveness at a deleted site if new information becomes available that indicates it is appropriate. Whenever there is a significant release from a site deleted from the NPL, the deleted site may be restored to the NPL without application of the hazard ranking system.

III. Deletion Procedures

The following procedures apply to deletion of the Site:

(1) EPA consulted with the State of Florida prior to developing this direct final Notice of Deletion and the Notice of Intent to Delete co- published today in the “Proposed Rules” section of the Federal Register.

(2) EPA has provided the State of Florida 30 working days for review of this notice and the parallel Notice of Intent to Delete prior to their publication today, and the State, through the Florida Department of Environmental Protection, has concurred on the deletion of the Site from the NPL.

(3) Concurrently with the publication of this direct final Notice of Deletion, a notice of the availability of the parallel Notice of Intent to Delete is being published in a major local newspaper, the Lakeland Ledger. The newspaper notice announces the 30-day public comment period concerning the Notice of Intent to Delete the Site from the NPL.

(4) EPA placed copies of documents supporting the proposed deletion in the deletion docket and made these items available for public inspection and copying at the Site information repositories identified above.

(5) If adverse comments are received within the 30-day public comment period on this deletion action, EPA will publish a timely notice of withdrawal of this direct final Notice of Deletion before its effective date and will prepare a response to comments and continue with the deletion process on the basis of the Notice of Intent to Delete and the comments already received.

Deletion of a site from the NPL does not itself create, alter, or revoke any individual's rights or obligations. Deletion of a site from the NPL does not in any way alter EPA's right to take enforcement actions, as appropriate. The NPL is designed primarily for informational purposes and to assist EPA management. Section 300.425(e)(3) of the NCP states that the deletion of a site from the NPL does not preclude eligibility for future response actions, should future conditions warrant such actions.

IV. Basis for Site Deletion

The following information provides EPA's rationale for deleting the Site from the NPL:

Site Background and History

The Callaway & Son Drum Services (CSDS) Superfund Site (CERCLIS ID FLD094590916) is located in Lake Alfred, Polk County, Florida. The approximately nine and a half acre Site is located 55 miles east of Tampa and 43 miles west of Orlando, Florida. The Site lies between the Seaboard System Railroad tracks on the north and U.S. Highway 17-92 on the south. The City of Lake Alfred Wastewater Treatment Plant is located adjacent to and west of the Site. The Redwoods Apartments are located adjacent to and east of the Site. A garden nursery borders the property to the southwest.

CSDS was a family business, which operated from mid-1977 through early 1991 as a re-furbisher and reseller of used 55-gallon oil, solvent and citrus products drums. About 20 spent oil drums were cleaned, sandblasted and painted on an average day. During the citrus season, approximately 500 open-top drums were sandblasted and, if needed, painted every day.

At the operation's height, the facility once was estimated to have 60,000 drums present on the Site. Approximately 71 of the drums left abandoned on the uplands were removed and disposed of during a 1995 removal action conducted by the Florida Department of Environmental Protection (FDEP). The remaining drums and drum carcasses, estimated to be between two-to-three thousand, were removed and disposed of in December 2001 by contractors to EPA.

The CSDS Site first came to the attention of the Florida Department of Environmental Regulation (FDER, now FDEP) in October 1982, through the owner's application to construct/operate an industrial wastewater treatment and disposal system for the rinse water. Analyses of the rinse water discharge collected in December 1982 detected oil and grease and several inorganic analytes, including chromium, iron, and lead.

In early March 1984, members of the FDER Groundwater Section Operation Response Team conducted a site inspection of the CSDS Site. As a result of that inspection, FDER issued a warning notice to the owner for unauthorized discharge of organic solvents into surface and groundwater and for failure to provide a groundwater monitoring plan. A monitoring plan was subsequently submitted in January 1985. The plan proposed the installation of three monitoring wells. In July 1985, FDER completed a Potential Hazardous Waste Site Preliminary Assessment for the CSDS Site. The assessment recommended that the Site be given a low priority of inspection at the time, due to the then recent sampling conducted by FDER and the January 1985 submittal of a groundwater monitoring plan.

In June 1994, the FDER filed a Notice of Violation and Order for Corrective Action against the owner. The Notice of Violation was based upon the results of the Site Investigation, which revealed improper drum disposal and storage, as well as onsite soil and groundwater contamination. The owner was given the opportunity to petition the FDER for a hearing to address the Notice of Violation. The owner did not file for a petition and in October 1994, FDER filed a final Order against him.

The EPA proposed the Site to the NPL on February 4, 2000 through publication in the Federal Register (Volume 65, Number 24). The Site was finalized on the NPL through publication in the Federal Register on May 11, 2000 (Volume 65, Number 92).

Remedial Investigation (RI)

EPA initially conducted RI filed activities from February 2002 through August 2003. The following summarizes the scope of the RI for the CSDS Site:

• Determined the nature and extent of groundwater, soil, sediment, and surface water contamination relative to local background conditions that were attributable to the Site;

• Determined the extent of human contact with potentially contaminated media;

• Collected and evaluated the data necessary to develop a human health risk assessment; and

• Collected and evaluated the data necessary to develop an ecological risk assessment.

The 2002 surface and subsurface soil semivolatile organic compound (SVOCs) results reported a significant number of tentatively identified and/or unidentified compounds. At that time, EPA consulted with FDEP (prior to issuing a Proposed Plan) on the remedy, which consisted of a deed notice to notify prospective buyers of the presence of the unidentified and tentatively identified compounds, as well as groundwater monitoring for a limited period of time. In the event that the monitoring did not indicate contaminant concentrations of concern, groundwater monitoring was to be discontinued. FDEP did not concur with that proposed remedy as a final remedy. As a result, EPA conducted additional studies between 2004 and 2006 to determine the identity, concentration and toxicities of the tentatively identified and unidentified semivolatile compounds.

The question of the risks posed by tentatively identified and unidentified semivolatile organic compounds to human health were evaluated with the assistance of the EPA Office of Research and Development and the Superfund Health Risk Technical Support Center. Uncertainties related to non-cancer effects pertaining to the risks posed by the semivolatile organic contaminants identified in surface and subsurface soil were reduced, though not entirely eliminated. The evaluation concluded that an overwhelming majority of the compounds analyzed were not detected. Those SVOCs that were present in surface and subsurface soil were found below preliminary remediation goals and a hazard index of 1.0. In addition, two rounds of groundwater sampling conducted during 2007 showed that the tentatively and unidentified semivolatile organic compounds are not present in the Site's groundwater.

Selected Remedy

EPA, in consultation with FDEP, selected a No Action Record of Decision (ROD) at the CSDS Site on September 12, 2007. As discussed above, this decision was based principally on the outcome of both human health and ecological risk assessments. The estimates of human risks under the various exposure scenarios found that cancer and non-cancer risks posed by the Site's media were well within the ranges found acceptable by EPA.

Five-Year Review

Although hazardous substances are not known to be present onsite above levels allowing for unlimited use and unrestricted exposure, a discretionary five year review will be conducted by EPA within five years of the signing of the 2007 ROD. The purpose of this review is to revisit the issue related to the presence of tentatively identified and unidentified semivolatile organic compounds believed to be present in the Site's soil.

Community Involvement

Community relations involvement efforts for the CSDS Site began in August 2000 when the Florida Department of Health, Agency for Toxic Substances and Disease Registry and EPA publicized and held a public availability session, for the purpose of communicating the results of the health consultation and to inform the community of the Site's status. In mid-2002, EPA finalized the Site's Community Involvement Plan. Area residents were contacted as part of the community involvement work. An information repository was established at the Lake Alfred Public Library. Documents supporting both the removal action and the 2007 ROD were made available to the public at the Site's information repository, prior to the issuance of this ROD. On July 6, 2007, EPA published a Notice of Proposed Plan Public Comment Period and offered a public meeting. Only one comment was received during the comment period. No requests for a Public Meeting or extension of the comment period were received. Information which EPA has relied on or considered in recommending this deletion are available for the public to review at the information repositories identified above.

Determination That the Site Meets the Criteria for Deletion in the NCP

All of the completion requirements for this Site have been met, as described in the December 2007 Final Close-Out Report. The State of Florida has concurred with the proposed deletion of this Site from the NPL.

The NCP specifies that EPA may delete a site from the NPL if, “all appropriate Fund-financed response under CERCLA has been implemented, and no further response action by responsible parties is appropriate.” 40 CFR 300.425(e)(1)(ii). EPA with the concurrence of the State of Florida, through the FDEP, believes that this criterion for deletion has been met. Consequently, EPA is deleting this Site from the NPL. Documents supporting this action are available in the Site files.

V. Deletion Action

EPA, with concurrence of the State of Florida through the FDEP, has determined that all appropriate response actions under CERCLA, other than five-year reviews have been completed. Therefore, EPA is deleting the Site from the NPL.

Because EPA considers this action to be noncontroversial and routine, EPA is taking it without prior publication. This action will be effective August 4, 2009 unless EPA receives adverse comments by July 6, 2009. If adverse comments are received within the 30-day public comment period, EPA will publish a timely withdrawal of this direct final notice of deletion before the effective date of the deletion, and it will not take effect. EPA will prepare a response to comments and continue with the deletion process on the basis of the notice of intent to delete and the comments already received. There will be no additional opportunity to comment.

List of Subjects in 40 CFR Part 300

Environmental protection, Air pollution control, Chemicals, Hazardous waste, Hazardous substances, Intergovernmental relations, Penalties, Reporting and recordkeeping requirements, Superfund, Water pollution control, Water supply.

Dated: May 19, 2009.
J. Scott Gordon,
Acting Regional Administrator, EPA Region 4.

For the reasons set out in this document, 40 CFR part 300 is amended as follows:

PART 300—[AMENDED]

1. The authority citation for part 300 continues to read as follows:

Authority: 33 U.S.C. 1321(c)(2); 42 U.S.C. 9601-9657; E.O. 12777, 56 FR 54757, 3 CFR, 1991 Comp., p. 351; E.O. 12580, 52 FR 2923; 3 CFR, 1987 Comp., p. 193.

2. Table 1 of Appendix B to part 300 is amended by removing “Callaway & Son Drum Service”, “Lake Alfred, Florida.”

[FR Doc. E9-13165 Filed 6-4-09; 8:45 am]

BILLING CODE 6560-50-P